ENVIRONMENTAL PROTECTION AGENCY

40 CFR Part 52

[EPA-R09-OAR-2024-0327; FRL-12106-01-R9]

Finding of Failure To Attain the 1997 8-Hour Ozone Standards; California; Los Angeles-South Coast Air Basin

AGENCY: Environmental Protection Agency (EPA).

ACTION: Proposed rule.

SUMMARY: The Environmental Protection Agency (EPA) is proposing to determine that the Los Angeles-South Coast Air Basin (“South Coast”) ozone nonattainment area failed to attain the 1997 8-hour ozone national ambient air quality standard by its June 15, 2024 “Extreme” area attainment date. This proposed determination is based on quality-assured and certified ambient air quality monitoring data from 2021 through 2023.

DATES: Comments must be received on or before September 16, 2024.

ADDRESSES: Submit your comments, identified by Docket ID No. EPA-R09-OAR-2024-0327 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Ginger Vagenas, EPA Region IX, ARD-2, 75 Hawthorne St., San Francisco, CA 94105: telephone number: (415) 972-3964; email address: vagenas.ginger@epa.gov.

SUPPLEMENTARY INFORMATION: Throughout this document, “we,” “us,” and “our” refer to the EPA.

Table of Contents

I. Background

A. Regulatory Context

B. History of the 1997 8-Hour Ozone NAAQS in the South Coast

II. EPA Analysis

A. Applicable Statutory and Regulatory Provisions

B. Monitoring Network Considerations

C. Data Considerations

III. Public Comment and Proposed Action

IV. Statutory and Executive Order Reviews

I. Background

A. Regulatory Context

Ground-level ozone pollution is formed from the reaction of volatile organic compounds (VOC) and oxides of nitrogen (NOX) in the presence of sunlight.¹ These two pollutants, referred to as ozone precursors, are emitted by many types of sources, including on- and off-road motor vehicles and engines, power plants and industrial facilities, and smaller area sources such as lawn and garden equipment and paints.

¹ The State of California refers to reactive organic gases (ROG) rather than VOC in some of its ozone-related SIP submissions. As a practical matter, ROG and VOC refer to the same set of chemical constituents, and for the sake of simplicity, we refer to this set of gases as VOC in this proposed rule.

Scientific evidence indicates that adverse public health effects occur following exposure to ozone, particularly in children and adults with lung disease. Breathing air containing ozone can reduce lung function and inflame airways, which can increase respiratory symptoms and aggravate asthma or other lung diseases.²

² EPA, Health Effects of Ozone Pollution, available at https://www.epa.gov/ground-level-ozone-pollution/health-effects-ozone-pollution.

Under section 109 of the Clean Air Act (CAA or “Act”), the EPA promulgates national ambient air quality standards (NAAQS or “standards”) for pervasive air pollutants, such as ozone. The NAAQS are concentration levels whose attainment and maintenance the EPA has determined to be requisite to protect public health and welfare. In 1979, under section 109 of the CAA, the EPA established primary and secondary standards for ozone at 0.12 parts per million (ppm) averaged over a 1-hour period.³

³ 44 FR 8202 (February 8, 1979).

On July 18, 1997, the EPA revised the primary and secondary NAAQS for ozone to set the acceptable level of ozone in the ambient air at 0.08 ppm, averaged over an 8-hour period.⁴ The EPA set the 1997 8-hour ozone NAAQS based on scientific evidence demonstrating that ozone causes adverse health effects at lower concentrations and over longer periods of time than was understood when the pre-existing 1-hour ozone standards were set. The EPA determined that the 8-hour standard would be more protective of human health, especially for children and for adults who are active outdoors, and for individuals with a preexisting respiratory disease, such as asthma.

⁴ 62 FR 38856 (July 18, 1997). Primary standards provide public health protection, including protecting the health of “sensitive” populations such as asthmatics, children, and the elderly. Secondary standards provide public welfare protection, including protection against decreased visibility and damage to animals, crops, vegetation, and buildings. Since the primary and secondary standards established in 1997 are set at the same level, we refer to them herein using the singular “1997 8-hour ozone NAAQS” or “1997 8-hour ozone standard.”

In March 2008, the EPA completed another review of the primary and secondary ozone standards and tightened them further by lowering the level for both to 0.075 ppm.⁵ The EPA revoked the 1997 8-hour ozone NAAQS effective April 6, 2015; ⁶ however, to comply with anti-backsliding requirements of the Act, areas designated nonattainment at the time that the 1997 8-hour ozone NAAQS was revoked remain subject to certain requirements based on their classification at the time of revocation, including requirements related to nonattainment contingency measures under CAA sections 172(c)(9) and 182(c)(9) and, for “Severe” and “Extreme” areas, major source fee programs under CAA section 185.⁷ The EPA's determination that an area failed to attain by its attainment date, which is made under CAA section 301 and consistent with section 181(b)(2), triggers these anti-backsliding requirements. See South Coast Air Quality Mgmt. Dist. v. EPA, 882 F.3d 1138, 1147 (D.C. Cir. 2018).

⁵ 73 FR 16436 (March 27, 2008).

⁶ 80 FR 12264 (March 6, 2015).

⁷ 40 CFR 51.1100(o).

The South Coast ozone nonattainment area, excluding areas of Indian country,⁸ lies within the jurisdiction of the South Coast Air Quality Management District (SCAQMD or “District”). Under California law, SCAQMD is responsible for adopting and implementing stationary source rules in the South Coast, such as the fee program rules required under CAA section 185, while the California Air Resource Board (CARB) adopts and implements consumer products and mobile source rules subject to the requirements of CAA section 209. CARB submits the District and State rules to the EPA.

⁸ “Indian country” as defined at 18 U.S.C. 1151 refers to: “(a) all land within the limits of any Indian reservation under the jurisdiction of the United States Government, notwithstanding the issuance of any patent, and, including rights-of-way running through the reservation, (b) all dependent Indian communities within the borders of the United States whether within the original or subsequently acquired territory thereof, and whether within or without the limits of a state, and (c) all Indian allotments, the Indian titles to which have not been extinguished, including rights-of-way running through the same.”

An area is considered to have attained the 1997 8-hour ozone standard if there are no violations of the standard, as determined in accordance with 40 CFR 50.9, based on three consecutive years of complete, quality-assured, and certified monitoring data. A violation occurs when the ambient ozone air quality monitoring data show that the 3-year average of the annual fourth-highest daily maximum 8-hour average ozone concentrations at an ozone monitor is greater than 0.08 ppm.⁹

⁹ 40 CFR 50.10. As explained in section II.A of this document, due to rounding and truncation conventions the computed 3-year average ozone concentration of 0.085 ppm is the smallest value that is greater than 0.08 ppm.

B. History of the 1997 8-Hour Ozone NAAQS in the South Coast

The South Coast ozone nonattainment area consists of Orange County, the southwestern two-thirds of Los Angeles County, southwestern San Bernardino County, and western Riverside County. It encompasses an area of approximately 6,600 square miles and is bounded by the Pacific Ocean to the west and the San Gabriel, San Bernardino, and San Jacinto mountains to the north and east.¹⁰ The population of the South Coast region is over 17 million people.¹¹

¹⁰ For a precise definition of the boundaries of the South Coast 1997 8-hour ozone nonattainment area, see 40 CFR 81.305.

¹¹ 2022 AQMP, Figure 1-3.

Following promulgation of a new or revised NAAQS, the EPA is required by the CAA to designate areas throughout the nation as attaining or not attaining the NAAQS. On April 15, 2004, the EPA designated the South Coast as nonattainment for the 1997 8-hour ozone standard and classified it as “Severe-17” under CAA section 181(a)(1) and 40 CFR 51.903(a), table 1.¹² This designation and classification became effective on June 15, 2004.

¹² 69 FR 23858, 23882-84 (April 30, 2004) and 40 CFR 81.305.

In 2007, California requested that the EPA reclassify the South Coast ozone nonattainment area from Severe-17 to Extreme nonattainment for the 1997 8-hour ozone standard under CAA section 181(b)(3). On May 5, 2010, we granted California's request and reclassified the area to Extreme effective June 4, 2010, with an attainment date of no later than June 15, 2024.¹³

¹³ 75 FR 24409. This reclassification excluded Indian country pertaining to the Morongo Band of Mission Indians and the Pechanga Band of Luiseño Mission Indians.

II. EPA Analysis

A. Applicable Statutory and Regulatory Provisions

For the revoked 1997 8-hour ozone NAAQS, the EPA is required to determine whether an ozone nonattainment area attained the ozone standard by the area's attainment date solely for purposes of triggering any applicable anti-backsliding requirements. For Extreme areas, applicable requirements triggered upon a finding that an area failed to attain by the attainment date are nonattainment contingency measures and CAA section 185 fee programs.¹⁴ A determination of whether an area's air quality meets the 1997 8-hour ozone standard is generally based on three years of complete, quality-assured, and certified air quality monitoring data gathered at established State and Local Air Monitoring Stations (“SLAMS”) in the nonattainment area and entered into the EPA's Air Quality System (AQS) database.¹⁵ Data from ambient air monitors operated by State/local agencies in compliance with EPA monitoring requirements must be submitted to the AQS database. Monitoring agencies annually certify that these data are accurate to the best of their knowledge. Accordingly, the EPA relies primarily on data in its AQS database when determining the attainment status of an area.¹⁶ All data are reviewed to determine the area's air quality status in accordance with 40 CFR part 50, appendix I.

¹⁴ 40 CFR 51.1105(d)(2)(iii).

¹⁵ Generally, a “complete” data set for determining attainment of the ozone is one that includes three years of data. There are less stringent data requirements for showing that a monitor has failed an attainment test and thus has recorded a violation of the standard.

¹⁶ 40 CFR 50.10; 40 CFR part 50, appendix I; 40 CFR part 53; 40 CFR part 58, appendices A, C, D, and E.

Under EPA regulations at 40 CFR 50.10, the 1997 8-hour ozone standard is attained when the 3-year average of the annual fourth-highest daily maximum 8-hour average ozone concentrations at an ozone monitor is less than or equal to 0.08 ppm (i.e., 0.084 ppm when rounding, based on the truncating conventions in 40 CFR part 50, appendix I). This 3-year average is referred to as the “design value.” When the design value is greater than 0.084 ppm at any monitor within the area, then the area is violating the NAAQS. The data completeness requirement is met when the average percent of days with valid ambient monitoring data is greater than or equal to 90 percent, and no single year has less than 75 percent data completeness, as determined under appendix I of 40 CFR part 50.

The EPA is proposing to determine that the South Coast failed to attain the 1997 8-hour ozone standard by its applicable attainment date; that is, that the average of the annual fourth-highest daily maximum 8-hour average ozone concentration was above 0.08 ppm in the period prior to the applicable attainment date, i.e., 2021-2023. This proposed determination is based on three years of quality-assured and certified ambient air quality monitoring data in AQS for the 2021-2023 monitoring period.

B. Monitoring Network Considerations

Section 110(a)(2)(B)(i) of the CAA requires States to establish and operate air monitoring networks to compile data on ambient air quality for all criteria pollutants. In the South Coast, SCAQMD is responsible for assuring that the area meets air quality monitoring requirements. The District's annual network plans describe the air monitoring network as required under 40 CFR 58.10. The EPA reviews these annual network plans for compliance with specific requirements in 40 CFR part 58. With respect to ozone, we have found that the annual network plans submitted by SCAQMD meet the minimum monitoring requirements of 40 CFR part 58. While the EPA has identified some requirements that are not met in these annual network plans, these unmet requirements do not preclude us from determining that the South Coast has failed to attain the 1997 8-hour ozone NAAQS.¹⁷

¹⁷ We have included copies of SCAQMD's annual network plans for 2021-2023 in the docket for this rulemaking, along with our reviews of these plans and our associated transmittal correspondence.

Finally, the EPA conducts regular Technical Systems Audits (TSAs) where we review and inspect State and local ambient air monitoring programs to assess compliance with applicable regulations concerning the collection, analysis, validation, and reporting of ambient air quality data. For the purposes of this proposal, we reviewed the findings from the EPA's most recent TSA of SCAQMD's ambient air monitoring program.¹⁸ The results of this TSA do not preclude the EPA from determining that the South Coast ozone nonattainment area has failed to attain the 1997 8-hour ozone NAAQS.

¹⁸ See letter from Elizabeth Adams, Director, Air and Radiation Division, U.S. EPA Region IX, to Dr. Matt Miyasato, Executive Officer, SCAQMD, dated March 18, 2021, and enclosure titled, “Technical Systems Audit Report, SCAQMD, June 1-June 5, 2020.”

C. Data Considerations

In accordance with 40 CFR 58.15, SCAQMD certifies annually that the previous year's ambient concentration and quality assurance data are completely submitted to AQS and that the ambient concentration data are accurate, taking into consideration the quality assurance findings.¹⁹ There were 27 ozone monitoring sites located throughout the South Coast in calendar years 2021 through 2023: 13 within Los Angeles County, three within Orange County, six within Riverside County, and five within San Bernardino County. Table 1 of this document summarizes the ozone monitoring data from the various monitoring sites in the South Coast ozone nonattainment area by showing the annual 4th highest daily maximum concentrations and design values over the 2021-2023 period. The data summarized in table 1 of this document are considered complete for the purposes of determining if the standard is met.²⁰

¹⁹ We have included SCAQMD's annual data certifications for 2020, 2021, and 2022 in the docket for this rulemaking.

²⁰ The criteria for data completeness are met at most of the ozone monitors over the 2021-2023 period, but are not met for the ozone monitors at the Azusa, LAX Hastings, Mission Viejo, Perris, and Upland stations. However, the failure of these five monitors to meet the completeness criteria does not bear on the question of whether the area is violating because several other monitors within the area are violating the NAAQS.

Table 1—South Coast Ozone Nonattainment Area Fourth High 8-Hour Ozone Average Concentrations and Design Values (ppm) for 2021-2023
General location | Site name (AQS ID) | 4th Highest daily maximum: 2021 | 4th Highest daily maximum: 2022 | 4th Highest daily maximum: 2023 | Design value (2021-2023)
Los Angeles County:
East San Gabriel Valley | Azusa (06-037-0002) | 0.077 | ᵃ N/A | ᵃ N/A | ᵇ Invalid
East San Gabriel Valley | Glendora (06-037-0016) | 0.090 | 0.094 | 0.102 | 0.095
Northwest Coastal LA County | West Los Angeles (06-037-0113) | 0.059 | 0.058 | 0.064 | 0.060
Central Los Angeles | Los Angeles—North Main Street (06-037-1103) | 0.068 | 0.073 | 0.075 | 0.072
West San Fernando Valley | Reseda (06-037-1201) | 0.080 | 0.078 | 0.087 | 0.081
South Central Los Angeles County | Compton (06-037-1302) | 0.062 | 0.064 | 0.068 | 0.081
South San Gabriel Valley | Pico Rivera #2 (06-037-1602) | 0.068 | 0.070 | 0.075 | 0.071
Pomona/Walnut Valley | Pomona (06-037-1701) | 0.089 | 0.088 | 0.095 | 0.090
West San Gabriel Valley | Pasadena (06-037-2005) | 0.081 | 0.081 | 0.086 | 0.082
South Coastal LA County | Signal Hill (06-037-4009) | 0.060 | 0.058 | 0.062 | 0.060
East San Fernando Valley | North Hollywood (06-037-4010) | 0.079 | 0.082 | 0.085 | 0.082
Southwest Coastal LA County | LAX Hastings (06-037-5005) | ᵃ N/A | ᵃ N/A | ᵃ N/A | ᵇ Invalid
Santa Clarita Valley | Santa Clarita (06-037-6012) | 0.097 | 0.095 | 0.103 | 0.098
Orange County:
Central Orange County | Anaheim (06-059-0007) | 0.063 | 0.060 | 0.064 | 0.062
Saddleback Valley | Mission Viejo (06-059-2022) | 0.078 | ᵃ N/A | ᵃ N/A | ᵇ Invalid
North Orange County | La Habra (06-059-5001) | 0.070 | 0.070 | 0.077 | 0.072
Riverside County:
Banning | Banning Airport (06-065-0012) | 0.102 | 0.093 | 0.095 | 0.096
Temecula Valley | Temecula (06-065-0016) | 0.078 | 0.070 | 0.069 | 0.072
Perris Valley | Perris (06-065-6001) | 0.091 | ᵃ N/A | ᵃ N/A | ᵇ Invalid
Metropolitan Riverside County | Rubidoux (06-065-8001) | 0.091 | 0.092 | 0.097 | 0.093
Mira Loma | Mira Loma (Van Buren) (06-065-8005) | 0.093 | 0.087 | 0.095 | 0.091
Lake Elsinore | Lake Elsinore (06-065-9001) | 0.090 | 0.086 | 0.086 | 0.087
San Bernardino County:
Central San Bernardino Mountains | Crestline (06-071-0005) | 0.107 | 0.105 | 0.106 | 0.106
Northwest San Bernardino Valley | Upland (06-071-1004) | 0.097 | 0.098 | ᵃ N/A | ᵇ Invalid
Central San Bernardino Valley | Fontana (06-071-2002) | 0.099 | 0.095 | 0.105 | 0.099
East San Bernardino Valley | Redlands (06-071-4003) | 0.112 | 0.103 | 0.105 | 0.106
Central San Bernardino Valley | San Bernardino (06-071-9004) | 0.105 | 0.103 | 0.107 | 0.105
ᵃ The required annual 75 percent completeness criterion was not met, therefore the annual 4th highest daily maximum values were not provided.
ᵇ The design values for the Azusa, LAX Hastings, Mission Viejo, Perris, and Upland sites are invalid due to temporary or permanent closures of the sites. All other design values are valid.
Source: EPA, AQS Design Value (AMP480), Report Request ID: 2200476, July 10, 2024. Also see Memorandum dated July 19, 2024, from Jennifer Williams and Ben Wells, EPA, to Docket ID No. EPA-R09-OAR-2024-0327, Subject: “Correction to Design Values for the 1997 8-hour Ozone NAAQS in Los Angeles-South Coast Air Basin, CA Nonattainment Area.”

Generally, the highest ozone concentrations in the South Coast occur in the northern and eastern portions of the area. As shown in table 1 of this document, the highest 8-hour design value at any site in the South Coast ozone nonattainment area for 2021-2023 is 0.106 ppm at both the Crestline site in the Central San Bernardino Mountains and the Redlands site in the East San Bernardino Valley. The design value of 0.106 ppm represents a violation of the 1997 8-hour ozone standard.²¹ Table 1 of this document also shows that, while the highest design values occur in the East and Central San Bernardino Valley, violations occur throughout Los Angeles, Riverside, and San Bernardino Counties.

²¹ For more information, please see “National 8-hour primary and secondary ambient air quality standards for ozone” (40 CFR 50.10) and “Interpretation of the 8-Hour Primary and Secondary National Ambient Air Quality Standards for Ozone” (40 CFR part 50, appendix I).

Taking into account the extent and reliability of the applicable ozone monitoring network, and the data collected therefrom and summarized in table 1 of this document, we propose to determine that the South Coast ozone nonattainment area failed to attain the 1997 8-hour ozone standard (as defined in 40 CFR part 50, appendix I) by the applicable attainment date (i.e., June 15, 2024).

III. Public Comment and Proposed Action

We are proposing to determine that the South Coast failed to attain the 1997 8-hour ozone NAAQS by its June 15, 2024 attainment date, based on quality-assured and certified ambient air quality monitoring data from 2021 through 2023. The EPA is determining whether this area failed to attain by the applicable attainment date solely for purposes of triggering applicable anti-backsliding requirements. For Extreme areas, applicable requirements triggered upon a finding that an area failed to attain by the attainment date are nonattainment contingency measures and CAA section 185 fee programs. We will accept comments from the public on this proposal until September 16, 2024.

IV. Statutory and Executive Order Reviews

Additional information about these statutes and Executive Orders can be found at https://www.epa.gov/laws-regulations/laws-and-executive-orders.

A. Executive Order 12866: Regulatory Planning and Review and Executive Order 13563: Improving Regulation and Regulatory Review

This proposed action is not a significant regulatory action and was therefore not submitted to the Office of Management and Budget (OMB) for review.

B. Paperwork Reduction Act (PRA)

This action does not impose any new information collection burden under the PRA not already approved by the OMB.

C. Regulatory Flexibility Act (RFA)

I certify that this action will not have a significant economic impact on a substantial number of small entities under the RFA. This action will not impose any requirements on small entities.

D. Unfunded Mandates Reform Act (UMRA)

This action does not contain any unfunded mandate as described in UMRA, 2 U.S.C. 1531-1538, and does not significantly or uniquely affect small governments. This action does not impose any enforceable duty on any state, local, or tribal governments, or the private sector.

E. Executive Order 13132: Federalism

This action does not have federalism implications. It will not have substantial direct effects on the states, on the relationship between the national government and the states, or on the distribution of power and responsibilities among the various levels of government.

F. Executive Order 13175: Coordination With Indian Tribal Governments

Executive Order 13175, entitled “Consultation and Coordination with Indian Tribal Governments” (65 FR 67249, November 9, 2000), requires the EPA to develop an accountable process to ensure “meaningful and timely input by tribal officials in the development of regulatory policies that have tribal implications.” “Policies that have tribal implications” is defined in the Executive Order to include regulations that have “substantial direct effects on one or more Indian tribes, on the relationship between the Federal Government and Indian Tribes, or on the distribution of power and responsibilities between the Federal Government and Indian Tribes.”

This proposed action does not have Tribal implications as specified by Executive Order 13175 (65 FR 67249, November 9, 2000), because the SIP obligations discussed herein do not apply to Indian Tribes and thus this proposed action will not impose substantial direct costs on Tribal governments or preempt Tribal law. Nonetheless, the EPA has notified the Tribes within the South Coast ozone nonattainment area of the proposed action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Population

Executive Order 12898 establishes federal executive policy on environmental justice. Its main provision directs federal agencies, to the greatest extent practicable and permitted by law, to make environmental justice part of their mission by identifying and addressing, as appropriate, disproportionately high and adverse human health or environmental effects of their programs, policies, and activities on minority populations and low-income populations in the United States. There is no information in the record indicating that this action is inconsistent with the stated goals of Executive Order 12898 of achieving environmental justice for people of color, low-income populations, and indigenous peoples.

List of Subjects in 40 CFR Part 52

Environmental protection, Air pollution control, Incorporation by reference, Intergovernmental relations, Nitrogen oxides, Ozone, Reporting and recordkeeping requirements, Volatile organic compounds.

Dated: August 2, 2024.
Martha Guzman Aceves,
Regional Administrator, Region IX.

[FR Doc. 2024-17573 Filed 8-14-24; 8:45 am]

BILLING CODE 6560-50-P